DEPARTMENT OF COMMERCE

United States Patent and Trademark Office

RIN 0651-ABXX

Notice of Intellectual Property Symposium of the Americas: Protecting Intellectual Property in the Digital Age

AGENCY: United States Patent and Trademark Office, Commerce.

ACTION: Notice of meeting.

SUMMARY: The United States Patent and Trademark Office (USPTO) is announcing that it will hold a two-day symposium on the enforcement of intellectual property in the Western Hemisphere. The symposium is expected to provide an opportunity for high-ranking government intellectual property officials and members of the business and intellectual property communities in the Western Hemisphere to discuss and formulate an agenda for cooperation in the critical area of intellectual property enforcement. Particular attention during the symposium will be paid to the Internet, Optical Media Piracy, and Business Software and Business Methods Patent enforcement issues, and to developing a basis for closer Hemispheric coordination in the enforcement of intellectual property rights generally.

DATES: The symposium will be held on Monday, September 11, 2000, and Tuesday, September 12, 2000, beginning at 9:30 a.m. and ending at approximately 5:30 p.m. each day. Due to security concerns, attendance at the symposium will be limited to 150 people. Requests to attend the symposium must be made in writing no later than July 31, 2000, and must comply with the requirements set forth in this notice. Because seating is limited, only one request to participate per firm, agency or organization will be granted. For purposes of determining eligibility, affiliates and subsidiaries in different countries will be considered separate organizations.

ADDRESSES: The symposium will be held at the Sheraton Crystal City Hotel, 1800 Jefferson Davis Highway, Arlington, Virginia 22202. Directions to the symposium location will be available inside the lobby of the Sheraton Crystal City.

Requests to attend the symposium should be made to Doris Long by electronic mail to soa2k@uspto.gov, by facsimile transmission marked to the attention of Doris Long at (877) 786-4220, or by mail marked to the attention of Doris Long and addressed to the Office of Legislative and International Affairs, United States Patent and Trademark Office, Box 4, Washington, DC 20231. Symposium attendees will be accepted as their requests are received on a first-come, first-serve basis according to the time and date of receipt of each request, and subject to the restrictions that: (1) Only written requests will be accepted; (2) only one request (one person) per company, firm, agency or organization will be accepted (for purposes of determining eligibility, affiliates and subsidiaries in different countries will be considered separate organizations); (3) only requests which contain the information set forth below under “Further Registration Information” will be accepted; and (4) only requests received on or before July 31, 2000, will be considered.

FOR FURTHER INFORMATION CONTACT: Doris Long by telephone at (877) 786-4220; by electronic mail to soa2k@uspto.gov; by fax at (877) 786-4220; or by mail marked to her attention and addressed to the Office of Legislative and International Affairs, United States Patent and Trademark Office, Box 4, Washington, DC 20231.

SUPPLEMENTARY INFORMATION:

1. Background

Over the past several decades, the global economy has undergone a fundamental change, where the principal engine of economic growth and job creation is not based on raw natural resources, but on the use of knowledge, ideas and innovation. From the Internet and E-commerce, to computer software and technology, countries increasingly rely on knowledge-based products and services to fuel their economic and technological growth. Intellectual property protection forms an integral part of any knowledge-based economy, since intellectual property laws traditionally serve as a source of protection for knowledge, ideas and innovation. At the same time, the rights of intellectual property owners are being increasingly threatened by the widespread use of the Internet and other digital technologies in facilitating global piracy.

As of January 1, 2000, most countries in the Western Hemisphere are obligated to have domestic laws and enforcement mechanisms that comply with the international standards set forth under the Agreement on Trade-Related Aspects of Intellectual Property Rights (TRIPS). In order to assure continuing growth for the countries of the Western Hemisphere, enforcement mechanisms must be designed to take into account the needs and issues of a knowledge-based economy and be built on traditional methodologies for enforcement of intellectual property rights against infringing physical goods and services. At the same time such mechanisms must be designed to combat the increasing use of the Internet and other digital technologies in the development and distribution of pirated and counterfeit goods.

In light of the Hemispheric importance of effective intellectual property enforcement programs capable of dealing with the challenges posed by digital piracy, this symposium will feature structured dialogues and round-table discussions regarding cutting edge intellectual property enforcement policy issues. These discussions will occur between high-level government officials from every country in the Western Hemisphere with which the United States maintains diplomatic relations.

The goals of the symposium are:

A. To assist government officials from the Western Hemisphere in developing effective enforcement systems based on an interdisciplinary approach in which civil, criminal, administrative, and border (customs) measures work together and separately to aid in protecting and enforcing intellectual property rights in the Digital Age.

B. To strengthen regional cooperation for the improvement of the enforcement of intellectual property rights in order to meet international treaty obligations, including those under TRIPS.

C. To provide Western Hemisphere countries with a detailed review of the emerging intellectual property treaty regimes of the Digital Age. Included among the topics would be the WIPO Copyright Treaty, the WIPO Performances and Phonograms Treaty, and the enforcement requirements of TRIPS and NAFTA.

D. To discuss ways to generally improve the enforcement of intellectual property rights throughout the Hemisphere.

2. Draft Agenda

A draft agenda for the symposium is set forth below:

Intellectual Property Symposium of The Americas: Protecting Intellectual Property in The Digital Age

Monday, September 11

Plenary Round Table I

E-Commerce and Other Strategies For Turning Intellectual Property Protection into Investment Opportunities.

Break Out Round Table A

Intellectual Property Rights and the Internet: Digital Distribution and the Technological Threat to Intellectual Property.

Break Out Round Table B

Establishing a Workable Enforcement System under TRIPS: Practical Problems and Potential Solutions.

Break Out Round Table C

Adapting “Hard” Goods Enforcement Techniques to Cyberspace.

Break Out Round Table D

Legal and Technological Obstacles to Protecting Intellectual Property in the Digital Age: Practical Problems and Realistic Solution.

Break Out Round Table E

Prevention v. Cure: Creating Effective Educational and Public Awareness Enforcement Campaigns.

Break Out Round Table F

Creating an Effective Enforcement Program With Limited Resources: Some Models for Facilitating Information and Resource Sharing.

Break Out Round Table G

Resolving Domain Name Problems in Cyberspace.

Break Out Round Table H

Copyright and the WIPO Treaties: Protecting Content on the Internet.

Tuesday, September 12

Plenary Round Table II

Technology Transfers, Business Method Patents and the Pitfalls of Licensing.

Break Out Round Table J

Creating an Effective Enforcement Program for New Technologies: Protecting Trade Secrets and Technology Patents.

Break Out Round Table K

Trademark Counterfeiting and the Net: Enforcing Rights on the Internet Frontier.

Plenary Round Table III

Future Issues in Intellectual Property Enforcement: Technology Patents and Confidential Information.

Plenary Round Table IV

An Action Plan for the Future: A Dialogue Among the Participants on Future Problems and Solutions.

3. Further Registration Information

This symposium, and all program-related materials, are offered free of charge. As noted above, due to security concerns, admission to the symposium will be limited to 150 participants who are pre-registered and whose registration has been accepted in accordance with the following guidelines:

1. Requests to attend the symposium should be made to Doris Long by electronic mail to soa2k@uspto.gov, by facsimile transmission marked to the attention of Doris Long at (877) 786-4220, or by mail marked to the attention of Doris Long and addressed to the Office of Legislative and International Affairs, United States Patent and Trademark Office, Box 4, Washington, DC 20231.

2. All requests to attend must be in writing and must contain the following information:

A. Name;

B. Company/ Firm/Agency or Organization Affiliation (if any);

C. Mailing Address;

D. Facsimile, or Email Address where notification of acceptance of registration can be sent.

3. Symposium attendees will be accepted as their requests are received on a first-come, first-serve basis according to the time and date of receipt of each request. To be considered “received,” a request to attend must contain all of the information required in this section; and must be received on or before the July 3, 2000, application deadline.

4. Only one request (one person) per company, firm, agency or organization will be accepted. For purposes of determining eligibility, affiliates and subsidiaries in different countries will be considered separate organizations.

5. It would be helpful for purposes of determining space needs, but is not required, if the applicant would also indicate which Break Out sessions he or she intends to attend. For convenience, a registration form has been placed on the USPTO web-site at www.uspto.gov.

Dated: June 29, 2000.
Q. Todd Dickinson,
Under Secretary of Commerce for Intellectual Property and Director of the United States Patent and Trademark Office.

[FR Doc. 00-17030 Filed 7-5-00; 8:45 am]

BILLING CODE 3510-16-P